NUCLEAR REGULATORY COMMISSION

[NRC-2009-0187]

Notice of Availability of Final Environmental Impact Statement for the AREVA Enrichment Services LLC Proposed Eagle Rock Enrichment Facility in Bonneville County, ID

AGENCY: Nuclear Regulatory Commission.

ACTION: Notice of Availability of Final Environmental Impact Statement.

SUMMARY: Notice is hereby given that the U.S. Nuclear Regulatory Commission (NRC) has published the Final Environmental Impact Statement (EIS) for the AREVA Enrichment Services LLC (AES) Proposed Eagle Rock Enrichment Facility (EREF). On December 30, 2008, AES submitted a license application to the NRC that proposes the construction, operation, and decommissioning of a gas centrifuge-based uranium enrichment facility on a presently undeveloped site near Idaho Falls in Bonneville County, Idaho (the “proposed action”). This application is for a license to possess and use byproduct material, source material, and special nuclear material at the proposed uranium enrichment facility. The application included an Environmental Report (ER) regarding the proposed action.

AES subsequently submitted revisions to the license application on April 23, 2009 (Revision 1), and April 30, 2010 (Revision 2), which included ER Revision 1 and ER Revision 2, respectively. License application Revision 1 addresses the expansion of the proposed EREF to increase its production capacity from 3.3 million Separative Work Units (SWUs) per year to 6.6 million SWUs per year; and ER Revision 1 includes information on the environmental impacts of the proposed 6.6-million-SWU-per-year EREF. Revision 2 to the license application and the ER incorporates into Revision 1 additional information that AES previously provided the NRC in response to NRC staff requests for additional information for its safety and environmental reviews, as well as supplemental information on a proposed electrical transmission line required to power the proposed EREF.

On June 17, 2009, AES submitted a request for an exemption from certain NRC regulations so that it could commence certain preconstruction activities (e.g., site preparation) on the proposed EREF site prior to the NRC's decision on whether to grant or deny a license. On March 17, 2010, the NRC granted an exemption authorizing AES to conduct the requested preconstruction activities.

The Final EIS is being issued as part of the NRC's process to decide whether to issue a license to AES, pursuant to Title 10 of the Code of Federal Regulations (10 CFR) parts 30, 40, and 70, to construct and operate the proposed uranium enrichment facility. Specifically, AES proposes to use gas centrifuge technology to enrich the uranium-235 isotope found in natural uranium to concentrations up to 5 percent by weight. The enriched uranium would be used to manufacture nuclear fuel for commercial nuclear power reactors. In the Final EIS, the NRC staff assessed the potential environmental impacts from the preconstruction, construction, operation, and decommissioning of the proposed EREF project.

The Final EIS was prepared in compliance with the National Environmental Policy Act of 1969, as amended (NEPA), and the NRC's regulations for implementing NEPA in 10 CFR part 51. The NRC staff assessed the impacts of the proposed action on land use, historic and cultural resources, visual and scenic resources, air quality, geology and soils, water resources, ecological resources, noise, transportation, public and occupational health, waste management, socioeconomics, and environmental justice. Additionally, the NRC staff analyzed and compared the benefits and costs of the proposed action. In preparing this Final EIS, the NRC staff also reviewed, considered, evaluated, and addressed the public comments received on the Draft EIS.

In addition to the proposed action, the NRC staff considered the no-action alternative and other alternatives. Under the no-action alternative, the NRC would deny AES's request to construct and operate a uranium enrichment facility at the EREF site. The no-action alternative serves as a baseline for comparison of the potential environmental impacts of the proposed action. Other alternatives the NRC staff considered but eliminated from further analysis include: (1) Alternative sites for the EREF; (2) alternative sources of enriched uranium; and (3) alternative technologies for uranium enrichment. These alternatives were eliminated from further analysis due to economic, environmental, national security, technological maturity, or other reasons. The Final EIS also discusses alternatives for the disposition of depleted uranium hexafluoride (UF6) resulting from enrichment operations over the lifetime of the proposed EREF.

After weighing the impacts, costs, and benefits of the proposed action and comparing alternatives, the NRC staff, in accordance with 10 CFR 51.91(d), sets forth its recommendation regarding the proposed action. The NRC staff recommends that, unless safety issues mandate otherwise, the proposed action should be approved (i.e., NRC should issue a license). In this regard, the NRC staff has concluded that the environmental impacts of the proposed action are generally small, and that implementation of the proposed AES environmental monitoring program and AES mitigation measures discussed in the Final EIS would eliminate or substantially lessen any adverse environmental impacts associated with the proposed action.

Document Availability: The Final EIS and other publicly available documents related to this notice can be accessed using any of the methods described in this section. Because one appendix of the Final EIS contains Sensitive Unclassified Non-Safeguards Information (SUNSI), this appendix has been withheld from public inspection in accordance with 10 CFR 2.390, “Availability of Public Records.” This appendix contains proprietary business information as well as security-related information. The NRC staff has considered the information in this appendix in forming the conclusions presented in the EIS. Procedures for obtaining access to SUNSI were previously published in the NRC's Notice of Hearing and Commission Order related to AES's application for the EREF. Notice of Receipt of Application for License; Notice of Consideration of Issuance of License; Notice of Hearing and Commission Order and Order Imposing Procedures for Access to Sensitive Unclassified Non-Safeguards Information and Safeguards Information for Contention Preparation; In the Matter of Areva Enrichment Services, LLC (Eagle Rock Enrichment Facility), 74 FR. 38052 (July 30, 2009).

NRC's Public Document Room (PDR): The public may examine and have copied, for a fee, publicly available documents related to the EREF project at the NRC's PDR, Room O1-F21, One White Flint North, 11555 Rockville Pike (first floor), Rockville, Maryland 20852. Members of the public can contact the NRC's PDR reference staff by calling 1-800-397-4209, by faxing a request to 301-415-3548, or by e-mail to pdr.resource@nrc.gov.

NRC Web sites: Documents related to this notice are available on the NRC's AREVA Enrichment Services, LLC Gas Centrifuge Facility website at http://www.nrc.gov/materials/fuel-cycle-fac/arevanc.html. The Final EIS for the proposed EREF may also be accessed on the internet at http://www.nrc.gov/reading-rm/doc-collections/nuregs/staff/ by selecting “NUREG-1945.”

NRC's Agencywide Documents Access and Management System (ADAMS): Members of the public can access the NRC's ADAMS at http://www.nrc.gov/reading-rm/adams.html. From this Web site, enter the ADAMS Accession Numbers included here for AES's license application and ER Revision 2 (ADAMS Accession Number: ML101610549), the exemption authorizing certain preconstruction activities (ADAMS Accession Number: ML093220446), and NRC's Final EIS (ADAMS Accession Numbers: ML11014A005 [Volume 1] and ML11014A006 [Volume 2]).

Federal rulemaking Web site: Materials related to this notice can be found at http://www.regulations.gov by searching on Docket ID: NRC-2009-0187.

Public Library: A copy of the Final EIS will be available at the Idaho Falls Public Library, 457 West Broadway, Idaho Falls, ID 83402, 208-612-8460.

FOR FURTHER INFORMATION CONTACT: For information about the Final EIS or the environmental review process, please contact Stephen Lemont at 301-415-5163 or Stephen.Lemont@nrc.gov. For general or technical information associated with the licensing process as it relates to the EREF application, please contact Breeda Reilly at 301-492-3110 or Breeda.Reilly@nrc.gov.

Dated at Rockville, Maryland, this 10th day of February, 2011.
For the Nuclear Regulatory Commission.
Andrew Persinko,
Deputy Director, Environmental Protection and Performance Assessment Directorate, Division of Waste Management and Environmental Protection, Office of Federal and State Materials and Environmental Management Programs.

[FR Doc. 2011-3495 Filed 2-15-11; 8:45 am]

BILLING CODE 7590-01-P